ENVIRONMENTAL PROTECTION AGENCY

[ER-FRL-8583-5]

Environmental Impacts Statements; Notice of Availability

Responsible Agency: Office of Federal Activities, General Information (202) 564-7167 or http://www.epa.gov/compliance/nepa/.

Weekly receipt of Environmental Impact Statements.

Filed 06/30/2008 through 07/02/2008.

Pursuant to 40 CFR 1506.9.

EIS No. 20080259, Draft EIS, AFS, WY, Spruce Gulch Bark Beetle and Fuels Reduction Project, Proposes to Implement Bark Beetle Related Salvage and Suppression Vegetative Treatments and Hazardous Fuels Abatement Treatments, Laramie Ranger District, Medicine Bow-Routt National Forests, Albany and Carbon Counties, WY, Comment Period Ends: 08/25/2008, Contact: Melissa M. Martin 307-745-2371. This document is available on the Internet at: http://www.fs.fed.us/r2/mbr/projects/foresthealth.

EIS No. 20080260, Draft EIS, AFS, WI, Medford Aspen Project, To Implement a Number of Vegetation and Transportation Management Activities, Medford-Park Falls Ranger District, Chequamegon-Nicolet National Forest, Taylor County, WI, Comment Period Ends: 08/25/2008, Contact: Jane Darnell 715-748-4875.

EIS No. 20080261, Draft EIS, USA, CA, PROGRAMMATIC—Brigade Combat Team Transformation Project, Restructure the 11th Armored Cavalry Regiment (ACR) to a Multi-Component (active duty/reserve) Heavy Brigade Combat Team (HBCT) and change/add several other organizations, Fort Irwin, CA, Comment Period Ends: 08/25/2008, Contact: Muhammad Bari 760-480-3410.

EIS No. 20080262, Draft EIS, SFW, NV, Desert National Wildlife Refuge Complex, Ash Meadows, Desert, Moapa Valley and Pahranagat National Wildlife Refuges, Comprehensive Conservation Plan, Clark, Lincoln and Nye counties, NV, Comment Period Ends: 08/25/2008, Contact: Cynthia Martinez 702-515-5450.

EIS No. 20080263, Draft EIS, COE, CA, Three Rivers Levee Improvement Authority, proposes construct and maintain the Feather River Levee Repair Project, Segment 2, Issuing 408 Permission and 404 Permit, Yuba County, CA, Comment Period Ends: 08/25/2008, Contact: John Suazo 916-557-6719.

EIS No. 20080264, Second Final Supplement, DOE, NV, Geologic Repository for the Disposal of Spent Nuclear Fuel and High-Level Radioactive Waste at Yucca Mountain, Nye County, Nevada—Nevada Rail Transportation Corridor (DOE/EIS-0250F-S2D), Wait Period Ends: 08/11/2008, Contact: Dr. Jane R. Summerson 702-794-1493.

EIS No. 20080265, Second Final EIS (Tiering), DOE, NV, Rail Alignment for the Construction and Operation of a Railroad in Nevada to a Geologic Repository (DOE/EIS-0369D) at Yucca Mountain, Nye County, NV, Wait Period Ends: 08/11/2008, Contact: Dr. Jane R. Summerson 702-794-1493.

EIS No. 20080266, Final Supplement, DOE, NV, Geologic Repository for the Disposal of Spent Nuclear Fuel and High-Level Radioactive Waste, Construction, Operation, Monitoring and Eventually Closing a Geologic Repository (DOE/EIS-0250F-S1D) at Yucca Mountain, Nye County, NV, Wait Period Ends: 08/11/2008, Contact: Dr. Jane R. Summerson 702-794-1493.

EIS No. 20080267, Draft Supplement, BLM, CA, Sunrise Powerlink Transmission Line Project, New Information, Proposed Land Use Plan Amendment, Construction and Operation of a New 91-mile 500 kilovolt (kV) Electric Transmission Line from Imperial Valley Substation (in Imperial Co. near the City of El Centro) to a New Central East Substation (in Central San Diego County) Imperial and San Diego Counties, CA, Comment Period Ends: 08/25/2008, Contact: Lynda Kastoll 760-337-4400.

EIS No. 20080268, Draft Supplement, FTA, MN, Central Corridor Project, New Information on the 11 miles Light Rail Transit between downtown Minneapolis and downtown St. Paul, Minnesota, Twin Cities Metropolitan Area, MN, Comment Period Ends: 08/25/2008, Contact: Marisol Simon 312-353-2789.

Amended Notices

EIS No. 20070536, Draft EIS, AFS, 00, ~VOIDED~ National Forest System Lands in Utah Wild and Scenic River Suitability Study for 86 Eligible River Segments for Inclusion in the National Wild and Scenic River System, Ashley, Dixie, Fishlake, Manti-LaSal, Uinta, Wasatch-Cache National Forests in Utah and Portions of National Forests in Colorado and Wyoming, Comment Period Ends: 02/15/2008, Contact: Catherine Kahlow 435-783-4338.

This DEIS was inadvertently refilled and published in 12/28/2007 FR. The Correct DEIS #20070508 was published in 12/07/2007 FR.

EIS No. 20080106, Draft EIS, AFS, CO, Long Draw Reservoir Project, Re-Issue a Special-Use-Authorization to Water Supply and Storage to Allow the Continued Use of Long Draw Reservoir and Dam, Arapaho and Roosevelt National Forests and Pawnee National Grassland, Grand and Larimer Counties, CO, Comment Period Ends: 07/11/2008, Contact: Ken Tu 970-295-6623. Revision of FR Notice Published 03/28/2008: Extending Comment Period from 06/11/2008 to 07/11/2008.

Dated: July 8, 2008.
Ken Mittelholtz,
Environmental Protection Specialist, Office of Federal Activities.

[FR Doc. E8-15813 Filed 7-10-08; 8:45 am]

BILLING CODE 6560-50-P